DEPARTMENT OF HEALTH AND HUMAN SERVICES

Office of the Secretary

Federal Financial Participation in State Assistance Expenditures; Modifications in Federal Matching Shares for Medicaid and the State Children's Health Insurance Program for Alaska for October 1, 2005 Through September 30, 2006 and October 1, 2006 Through September 30, 2007

AGENCY: Office of the Secretary, DHHS.

ACTION: Notice.

SUMMARY: The revised Federal Medical Assistance Percentages and Enhanced Federal Medical Assistance Percentages for Alaska for Fiscal Years 2006 and 2007 have been calculated pursuant to section 6053(a) of the Deficit Reduction Act. These percentages will be effective from October 1, 2005 through September 30, 2006 and October 1, 2006 through September 30, 2007.

These revised Federal Medical Assistance Percentages for Alaska replace the percentages previously published for Fiscal Year 2006 (published November 24, 2004) and Fiscal Year 2007 (published November 30, 2005).

This notice announces the revised “Federal Medical Assistance Percentages” and “Enhanced Federal Medical Assistance Percentages” that we will use in determining the amount of Federal matching for State medical assistance (Medicaid) and State Children's Health Insurance Program (SCHIP) expenditures for Alaska. The table gives the figure for Alaska, which is the only state affected by section 6053(a) of the Deficit Reduction Act.

Section 6053(a) of the Deficit Reduction Act of 2005 provides for a modification of Alaska's Medicaid FMAP for Fiscal Years 2006 and 2007. The provision permits a maintenance of the Fiscal Year 2005 FMAP for Fiscal Year 2006 and Fiscal Year 2007 if the 2006 or 2007 FMAPs as calculated pursuant to section 1905(b) of the Act are less than the 2005 FMAP. Since the calculated Fiscal Year 2006 and 2007 FMAPs for Alaska are less than the 2005 FMAP, Alaska's 2005 FMAP will apply for Fiscal Years 2006 and 2007.

Section 6053(a) applies to expenditures under Title XIX and Title XXI. Therefore, the Enhanced Federal Medical Assistance Percentages for Alaska for 2006 and 2007 will be calculated from Alaska's revised Federal Medical Assistance Percentages for 2006 and 2007.

Federal Medical Assistance Percentages are used to determine the amount of Federal matching for State expenditures for assistance payments for certain social services such as Temporary Assistance for Needy Families (TANF) Contingency Funds, Child Care Mandatory and Matching Funds for the Child Care and Development Fund, Title IV-E Foster Care Maintenance payments, Adoption Assistance payments, and State medical and medical insurance expenditures for Medicaid and the State Children's Health Insurance Program (SCHIP). However, the modification of the Federal Medical Assistance Percentages and the Enhanced Federal Medical Assistance Percentages under the Deficit Reduction Act of 2005 affect only medical expenditure payments under Title XIX and all expenditure payments for the State Children's Health Insurance Program under Title XXI. The Department believes that the percentages in this notice do not apply to payments under Title IV of the Act. In addition, the Title XIX statute provides separately for Federal matching of administrative costs, which is not affected by the Deficit Reduction Act of 2005.

The Deficit Reduction Act of 2005, section 6053(b) also instructs the Secretary of HHS to disregard Katrina evacuees and income attributable to them in calculating the FMAPs for states with a significant number of evacuees. This provision would affect the calculation of the Federal Medical Assistance Percentages for Fiscal Year 2008, which HHS will publish in Fall 2006.

DATES: Effective Dates: The percentages listed will be effective for Fiscal Year 2006 and Fiscal Year 2007.

FOR FURTHER INFORMATION CONTACT: Kate Bloniarz or Robert Stewart, Office of Health Policy, Office of the Assistant Secretary for Planning and Evaluation, Room 447D—Hubert H. Humphrey Building, 200 Independence Avenue, SW., Washington, DC 20201, (202) 690-6870.

(Catalog of Federal Domestic Assistance Program Nos. 93.778: Medical Assistance Program; 93.767: State Children's Health Insurance Program)

Dated: May 9, 2006.
Michael O. Leavitt,
Secretary of Health and Human Services.

Federal Medical Assistance Percentages and Enhanced Federal Medical Assistance Percentages for Alaska, Effective October 1, 2005-September 30, 2006 (Fiscal Year 2006) and October 1, 2006-September 30, 2007 (Fiscal Year 2007)
State | Federal medical assistance percentage | Enhanced federal medical assistance percentage
Alaska | 57.58 | 70.31

[FR Doc. E6-7315 Filed 5-12-06; 8:45 am]

BILLING CODE 4154-05-P